DEPARTMENT OF AGRICULTURE

Forest Service

Notice of Proposed New Fee Sites for the Daniel Boone National Forest

AGENCY: Forest Service, USDA.

ACTION: Notice of proposed new fee sites.

SUMMARY: The Daniel Boone National Forest in Kentucky is proposing to charge new fees at nine recreation sites. These sites currently have amenities that are typically associated with fee areas. Fees are assessed based on the level of amenities and services provided, cost of operation and maintenance, market assessment, and public comment. Funds from fees would be used for the continued operation and maintenance of these recreation sites.

DATES: Send any comments on the proposed new fees by October 21, 2019. The comments will be compiled, analyzed, and shared with the Southern Region Recreation Resource Advisory Committee. New fee charges would begin after January 2020.

ADDRESSES: Written comments concerning this notice should be addressed to the Supervisor's Office: Dan Olsen, Forest Supervisor, Daniel Boone National Forest, 1700 Bypass Road, Winchester, KY 40391.

FOR FURTHER INFORMATION CONTACT: Tom Fouts, Recreation Fee Coordinator, 859-745-3100 or email tom.fouts@usda.gov. Information about proposed fee changes can be found on the Daniel Boone National Forest website at https://www.fs.usda.gov/dbnf/.

SUPPLEMENTARY INFORMATION: The Federal Recreation Lands Enhancement Act (Title VII, Pub. L. 108-447) directed the Secretary of Agriculture to publish a six-month advance notice in the Federal Register whenever new recreation fee areas are established. New fee sites proposed at $5 daily, $7 for three days, and $50 annually includes Bangor, Leatherwood, Clear Creek, Bee Rock and Craigs Creek boat ramps, Whitman Branch Shooting Range, and Billy Branch Group Picnic Site. Great Meadows Campground and S-Tree Campground are proposed at $15/night for a single site and $20/night for a double site. These sites will accept the suite of America the Beautiful, the National Parks and Federal Recreational Lands' (interagency) passes. Once public involvement is complete, these new fees will be reviewed by the Recreation Resource Advisory Committee prior to final decision and implementation.

Dated: August 22, 2019.
Richard A. Cooksey,
Acting Associate Deputy Chief, National Forest System.

[FR Doc. 2019-20341 Filed 9-19-19; 8:45 am]

BILLING CODE 3411-15-P